SECURITIES AND EXCHANGE COMMISSION

17 CFR Parts 232, 240, and 249

[Release No. 34-49505; File No. S7-18-04]

RIN 3235-AJ20

Proposed Rule Changes of Self-Regulatory Organizations

Correction

In proposed rule document 04-7538 beginning on page 17864 in the issue of Monday, April 5, 2004 make the following correction:

On page 17879, in the third column, after the second paragraph, “Jonathan G. Katz” should be deleted.

[FR Doc. C4-7538 Filed 4-29-04; 8:45 am]

BILLING CODE 1505-01-D

SOCIAL SECURITY ADMINISTRATION

[Social Security Acquiescence Ruling 04-1(9)]

Howard on behalf of Wolff v. Barnhart; Applicability of the Statutory Requirement for Pediatrician Review in Childhood Disability Cases to the Hearings and Appeals Levels of the Administrative Review Process—Title XVI of the Social Security Act

Correction

In notice document 04-9337 beginning on page 22578 in the issue of Monday, April 26, 2004, make the following correction:

On page 22579, in the first column, in the second paragraph, in the thirteenth line, “(Insert Federal Register publication date) ” should read “April 26, 2004.”

[FR Doc. C4-9337 Filed 4-29-04; 8:45 am]

BILLING CODE 1505-01-D